FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011656-001.

Title: West Coast Industrial Express Joint Service Agreement.

Parties: Associated Transport Line, L.L.C., ATL Investments Ltd., Industrial Maritime Carriers (U.S.A.) Inc., West Coast Industrial Express, L.L.C.

Synopsis: The proposed agreement changes the name of the joint service to West Coast Industrial Express, L.L.C., substitutes Industrial Maritime Carriers (U.S.A.) Inc. in place of G.G.E. Express Line L.L.C., and adds ATL Investments Ltd. to the agreement.

Agreement No.: 201004-002.

Title: Indiana International Port/Burns Harbor General Cargo Terminal Operating Agreement.

Parties: Indiana Port Commission, Indiana Stevedoring and Distribution Corporation.

Synopsis: The proposed amendment implements Indiana Stevedoring's exercise of its right of first refusal to add certain acreage to the agreement facilities, establishes fees for use of the additional acreage, adds new “Drug-Free” and “Conflict of Interest” clauses, and makes other non-substantive modifications.

Agreement No.: 201101-001.

Title: Tampa-Tampa Bay International Terminals Wharfage Incentive Agreement.

Parties: Tampa Port Authority, Tampa Bay International Terminals, Inc.

Synopsis: The proposed amendment extends the agreement through March 31, 2002, and revises the wharfage payment schedule.

Dated: April 5, 2001.
By Order of the Federal Maritime Commission.
Bryant L. VanBrakle,
Secretary.

[FR Doc. 01-8867 Filed 4-10-01; 8:45 am]

BILLING CODE 6730-01-P